DEPARTMENT OF COMMERCE

International Trade Administration

North American Free Trade Agreement (NAFTA), Article 1904 Binational Panel Reviews: Notice of Completion of Panel Review

AGENCY: NAFTA Secretariat, United States Section, International Trade Administration, Department of Commerce.

ACTION: Notice of Completion of Panel Review of the International Trade Administration's Final Results of Countervailing Duty Administrative Review and Rescission of Certain Company-Specific Reviews in Certain Softwood Lumber Products from Canada (Secretariat File Number: USA-CDA-2005-1904-01).

SUMMARY: Pursuant to the Order of the Binational Panel dated February 10, 2009, the determination described above was completed on February 10, 2009.

FOR FURTHER INFORMATION CONTACT: Marsha Iyomasa, Deputy United States Secretary, NAFTA Secretariat, Suite 2061, 14th and Constitution Avenue, Washington, DC 20230, (202) 482-5438.

SUPPLEMENTARY INFORMATION: On February 10, 2009, the Binational Panel issued a memorandum opinion and order, which granted the International Trade Administration's Motion to Dismiss the Complaints, concerning Certain Softwood Lumber Products from Canada. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists were discharged from their duties effective February 10, 2009.

Dated: March 13, 2009.
Marsha Iyomasa,
Deputy United States Secretary, NAFTA Secretariat.

[FR Doc. E9-6034 Filed 3-19-09; 8:45 am]

BILLING CODE 3510-GT-P